DEPARTMENT OF HOMELAND SECURITY

Coast Guard

33 CFR Part 117

[Docket No. USCG-2016-0257]

Drawbridge Operation Regulation; Delaware River, Pennsauken Township, NJ

AGENCY: Coast Guard, DHS.

ACTION: Notice of temporary deviation from regulations; request for comments.

SUMMARY: The Coast Guard has issued a temporary deviation from the operating schedule that governs the DELAIR Memorial Railroad Bridge across the Delaware River, mile 104.6, at Pennsauken Township, NJ. This deviation will test the remote operation system of the drawbridge to determine whether the bridge can be safely operated from a remote location. This deviation will allow the bridge to be remotely operated from the Conrail South Jersey dispatch center in Mount Laurel, NJ, instead of being operated by an on-site bridge tender.

DATES: This modified deviation is effective without actual notice from April 26, 2018 through 7:59 a.m. on October 16, 2018. For the purposes of enforcement, actual notice will be used from 8 a.m. on April 19, 2018, until April 26, 2018. Comments and related material must reach the Coast Guard on or before August 17, 2018.

ADDRESSES: You may submit comments identified by docket number USCG-2016-0257 using Federal eRulemaking Portal at http://www.regulations.gov. See the “Public Participation and Request for Comments” portion of the SUPPLEMENTARY INFORMATION section below for instructions on submitting comments.

FOR FURTHER INFORMATION CONTACT: If you have questions on this temporary deviation, call or email Mr. Hal R. Pitts, Fifth Coast Guard District (dpb); telephone (757) 398-6222, email Hal.R.Pitts@uscg.mil.

SUPPLEMENTARY INFORMATION:

I. Background, Purpose and Legal Basis

On April 12, 2017, we published a notification in the Federal Register entitled, “Drawbridge Operation Regulation; Delaware River, Pennsauken Township, NJ” announcing a temporary deviation from the regulations, with request for comments (see 82 FR 17562). The purpose of the deviation was to test the newly installed remote operation system of the DELAIR Memorial Railroad Bridge across the Delaware River, mile 104.6, at Pennsauken Township, NJ, owned and operated by Conrail Shared Assets. The installation of the remote operation system did not change the operational schedule of the bridge.¹

¹ A full description of the remote operation system is outlined in the aforementioned publication, which can be found at http://regulations.gov. (See ADDRESSES for more information).

On June 30, 2017, we published a notice of proposed rulemaking (NPRM) entitled, “Drawbridge Operation Regulation; Delaware River, Pennsauken Township, NJ” (see 82 FR 29800). The original comment period closed on August 18, 2017.

On October 18, 2017, we published a notification in the Federal Register entitled, “Drawbridge Operation Regulation; Delaware River, Pennsauken Township, NJ” announcing a second temporary deviation from the regulations, with request for comments (see 82 FR 48419). This temporary deviation commenced at 8 a.m. on October 21, 2017, and will conclude at 7:59 a.m. on April 19, 2018. This notification included a request for comments and related material to reach the Coast Guard on or before January 15, 2018.²

² Detailed information concerning this second test deviation is contained in the Background, Purpose and Legal Basis paragraphs of the aforementioned publication, which can be found at http://regulations.gov, (see ADDRESSES for more information).

On December 6, 2017, we published a notice of proposed rulemaking; reopening of comment period; entitled “Drawbridge Operation Regulation; Delaware River, Pennsauken Township, NJ” in the Federal Register (see 82 FR 57561). This notification included a request for comments and related material to reach the Coast Guard on or before January 15, 2018.

On January 22, 2018, we published a notification of temporary deviation from regulations; reopening comment period; entitled “Drawbridge Operation Regulation; Delaware River, Pennsauken Township, NJ” in the Federal Register (see 83 FR 2909). This notification included a request for comments and related material to reach the Coast Guard on or before March 2, 2018.

On February 15, 2018, we published a notice of proposed rulemaking; reopening comment period; entitled “Drawbridge Operation Regulation; Delaware River, Pennsauken Township, NJ” in the Federal Register (see 83 FR 6821). This notification included a request for comments and related material to reach the Coast Guard on or before March 2, 2018.

The Coast Guard has reviewed 25 comments posted to the docket, six reports with supporting documentation submitted by the bridge owner during the initial and second temporary deviations, and other information concerning the remote operation system of the DELAIR Memorial Railroad Bridge. Through this review, the Coast Guard has found that further testing and evaluation of the remote operation system of the drawbridge is necessary before making a decision on the proposed regulation. The Coast Guard has issued a third temporary deviation from 8 a.m. on April 19, 2018, through 7:59 a.m. on October 16, 2018, to provide sufficient time for further testing and evaluation of the remote operation system of the DELAIR Memorial Railroad Bridge.

During this temporary deviation, the following changes have been implemented: (1) The on-site bridge tender will be removed from the bridge, (2) qualified personnel will return and operate the bridge within 60 minutes if the remote operation system is considered in a failed condition,³ and (3) comments concerning the utility and value of the automated identification system (AIS) are requested. This deviation is authorized under 33 CFR 117.35.

³ The conditions in which the remote operation system will be considered in a failed condition are detailed in the Supplementary Information: III. Discussion of Proposed Rule section of the Notice of Proposed Rulemaking (NPRM), which can be found at: http://regulations.gov, (see ADDRESSES for more information).

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, visit http://www.regulations.gov/privacynotice.

Documents mentioned in this notification as being available in this docket and all public comments, will be in our online docket at http://www.regulations.gov and can be viewed by following that website's instructions. Additionally, if you go to the online docket and sign up for email alerts, you will be notified when comments are posted or a final rule is published.

Dated: April 19, 2018.
Jerry R. Barnes,
Captain, U.S. Coast Guard, Fifth Coast Guard District.

[FR Doc. 2018-08763 Filed 4-25-18; 8:45 am]

BILLING CODE 9110-04-P